COMMODITY FUTURES TRADING COMMISSION

Sunshine Act; Meetings

Federal Register Citation of Previous Announcement: 68 FR 7776.

Previously Announced time and Date of the Meeting: 10:30 a.m., Wednesday, March 05, 2003.

Changes in the Meeting: The closed meeting to discuss Personnel Matters has been postponed until Monday, March 10, 2003 at 2 p.m.

Contact Person for More Information: Jean A. Webb, 202-418-5100.

Jean A. Webb,
Secretary of the Commission.

[FR Doc. 03-5788 Filed 3-6-03; 2:13 pm]

BILLING CODE 6351-01-M